LIBRARY OF CONGRESS

Copyright Office

37 CFR Parts 201 and 212

[Docket No. RM 2006-5]

Correction of Errors in Certificates of Registration of Vessel Hull Designs

AGENCY: Library of Congress, Copyright Office.

ACTION: Interim rule.

SUMMARY: The Copyright Office is publishing an interim rule governing the correction of errors in certificates of registration of vessel hull designs. If the Office discovers a clerical or typographical error made by the Office on a certificate of registration, the Office will issue a corrected certificate. If an owner of a vessel hull design discovers a clerical or typographical error in a certificate of registration that is a result of error in the application, the owner may submit an application for correction of the certificate of registration.

DATES: Effective Date: August 14, 2006.

FOR FURTHER INFORMATION CONTACT: David O. Carson, General Counsel, or Renee Coe, Senior Attorney, P.O. Box 70400, Washington, DC 20024-0400, Telephone: (202) 707-8380. Telefax: (202) 707-8366.

SUPPLEMENTARY INFORMATION: The Vessel Hull Design Protection Act of 1998 offered sui generis protection for original designs of watercraft hulls and decks. 17 U.S.C. chapter 13. One of the requirements for protection of a vessel hull design is that the design be registered in the Copyright Office. See generally 17 U.S.C. 1310-1314.

Section 1319 provides that the Office “may, by a certificate of correction under seal, correct any error in a registration incurred through the fault of the Office, or, upon payment of the required fee, any error of a clerical or typographical nature occurring in good faith but not through the fault of the Office. Such registration, together with the certificate, shall thereafter have the same effect as if it had been originally issued in such corrected form.” 17 U.S.C. 1319.

The Office has not issued regulations governing the procedure for correcting clerical or typographical errors in certificates of registration of vessel hull designs, but is now issuing interim regulations to clarify the procedure for requesting a certificate of correction.

Certificates of registration of vessel hull designs are produced directly from the application for registration (on Form D-VH) submitted by the owner of the design, sometimes with amendments made by the Copyright Office with the consent of the claimant. When a claimant discovers that there was a clerical or typographical error on the application and on the resulting certificate of registration, the claimant may apply for correction of the error by submitting an application to correct a design registration (Form DC) with the applicable filing fee. The Office has determined that the filing fee for correction of an error in a certificate of registration shall be the same as the filing fee for supplementary registration, the analogous service for copyright registration. Upon examination of the application and determination that a clerical or typographical error was made, the Office will issue a certificate of correction, which will be produced directly from the Form DC submitted by the claimant. Form DC is available on the Copyright Office Web site at http://www.copyright.gov/forms/formdc.pdf.

The procedure for correcting clerical or typographical errors is somewhat similar to the existing procedure for supplementary registration of copyright, but is narrower in scope than the copyright procedure. A copyright claimant may obtain supplementary registration, by submitting Form CA, in order “to correct an error in a copyright registration or to amplify the information given in a registration.” 17 U.S.C. 408(d) (emphasis added). In contrast, section 1319 permits correction of a vessel hull design registration only in cases of a clerical or typographical error, and does not permit amplification or supplementation of the information in the basic registration.

When the Office discovers a clerical or typographical error in a certificate of registration that is due to error by the Office, or when such an error is brought to the attention of the Office, the Office will issue a corrected certificate of registration without requiring the submission of a Form DC or a filing fee.

List of Subjects

37 CFR Part 201

Copyright, General provisions.

37 CFR Part 212

Design, Vessel hulls, Registration.

Final Rule

For the reasons set out in the preamble, 37 CFR parts 201 and 212 are amended as follows:

PART 201—GENERAL PROVISIONS

1. The authority citation for part 201 continues to read as follows:

Authority: 17 U.S.C. 702.

§ 201.3 [Amended]

2. Section 201.3(c) is amended by adding paragraph (20) in the table to read: “(20) Correction of error in a certificate of registration of a vessel hull design (Form DC) * * * 115.”

PART 212—PROTECTION OF VESSEL HULL DESIGNS

3. The authority citation for part 212 continues to read as follows:

Authority: 17 U.S.C. chapter 13.

4. A new § 212.8 is added to read as follows:

§ 212.8 Correction of errors in certificates of registration.

(a) General.

(1) This section prescribes conditions relating to the correction of clerical or typographical errors in a certificate of registration of a vessel hull design, under section 1319 of title 17 of the United States Code, as amended by Public Law 105-304.

(2) For the purposes of this section, a basic registration means registration of a vessel hull design made under sections 1310 through 1314 of title 17 of the United States Code, as amended by Public Law 105-304.

(3) No correction of the information in a basic registration will be made except pursuant to the provisions of this § 212.8. As an exception, where it is discovered that the record of a vessel hull design registration contains a clerical or typographical error made by the Copyright Office, the Office will take appropriate measures to rectify its error. Correction will be made only of clerical or typographical errors; errors of a different nature cannot be corrected and there is no procedure to amplify the registration record with additional information.

(b) Application for correction of error in certificate. At any time after registration of a vessel hull design, the Copyright Office will correct a clerical or typographical error in the registration upon the application of the owner of the registered design or the owner's authorized agent.

(c) Form and content of application to correct registration.

(1) An application to correct a registration shall be made on a form prescribed by the Copyright Office, shall be accompanied by the appropriate filing fee identified in § 201.3(c) and shall contain the following information:

(i) The make and model of the vessel that embodies the registered design;

(ii) The registration number of the basic registration;

(iii) The year when the basic registration was completed;

(iv) The name or names of the designer or designers of the vessel hull, and the owner or owners of the vessel hull design, as they appear in the basic registration;

(v) The space number and heading or description of the part of the basic registration where the error occurred;

(vi) A transcription of the erroneous information as it appears in the basic registration;

(vii) A statement of the correct information as it should have appeared;

(viii) If desired, an explanation of the error or its correction;

(ix) The name and address:

(A) To which the correspondence concerning the application should be sent; and

(B) To which the certificate of correction should be mailed; and

(x) The certification shall consist of:

(A) The handwritten signature of the owner of the registered design or of the duly authorized agent of such owner (who shall also be identified);

(B) The typed or printed name of the person whose signature appears, and the date of signature; and

(C) A statement that the person signing the application is the owner of the registered design or of the duly authorized agent of such owner, and that the statements made in the application are correct to the best of that person's knowledge.

(2) The form prescribed by he Copyright Office for the foregoing purposes is designated “Application to Correct a Design Registration (Form DC)”. Copies of the form are available free upon request to the Public Information Office, Library of Congress, Copyright Office, 101 Independence Avenue, SE., Washington, DC 20559-6000 or on the Copyright Office Web site at http://www.copyright.gov/forms/formdc.pdf.

(3) Copies, phonorecords or supporting documents cannot be made part of the record of a corrected certificate of registration and should not be submitted with the application.

(d) Fee. The filing fee for an application to correct a certificate of registration of a vessel hull design is prescribed in § 201.3(c).

Dated: July 19, 2006.
Marybeth Peters,
Register of Copyrights.
James H. Billington,
Librarian of Congress.

[FR Doc. 06-6915 Filed 8-11-06; 8:45 am]

BILLING CODE 1410-30-M